DEPARTMENT OF ENERGY

Federal Energy Regulatory Commission

[Docket No. CP09-85-000]

El Paso Natural Gas Company; Notice of Request Under Blanket Authorization

March 30, 2009.

Take notice that on March 24, 2009, El Paso Natural Gas Company (El Paso) filed a prior notice request pursuant to sections 157.205 and 157.208 of the Federal Energy Regulatory Commission's regulations under the Natural Gas Act for authorization to decrease the Maximum Allowable Operating Pressure (MAOP), under El Paso's blanket certificate issued in Docket No. CP82-435-000. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, El Paso requests authorization to decrease the certificated MAOP of a 111-mile segment of its 12¾” O.D. El Paso-Douglas line (also referred as “Line No. 1004) located in Cochise County, Arizona and Dona Ana, Luna, Grant, and Hidalgo Counties, New Mexico and to thereafter operate the segment of Line No. 1004 at the lower MAOP. The MAOP decrease will be from 850 psig to 803 psig. This change will not result in any abandonment of service to its customers.

Any questions regarding the application should be directed to Richard Derryberry, Director, Regulatory Affairs Department, El Paso Natural Gas Company, P.O. Box 1087, Colorado Springs, CO 80944, phone: (719) 520-3782, fax: (719) 667-7534, e-mail: EPNGregulatoryaffairs@elpaso.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-7572 Filed 4-3-09; 8:45 am]

BILLING CODE 6717-01-P